DEPARTMENT OF TRANSPORTATION

National Highway Traffic Safety Administration

[Docket No. NHTSA 2001-10856]

Agency Information Collection Activities; Proposals, Submissions, and Approvals

AGENCY: National Highway Traffic Safety Administration (NHTSA), DOT.

ACTION: Second request for public comment on proposed collection of information.

SUMMARY: Before a Federal agency can collect certain information from the public, it must receive approval from the Office of Management and Budget (OMB). Under procedures established by the Paperwork Reduction Act of 1995, before seeking OMB approval, Federal agencies must solicit public comment on the proposed collection of information.

This document describes a proposed collection of information under regulations implementing section 7 of the Transportation Recall Effectiveness, Accountability, and Documentation (TREAD) Act with respect to the disposition of recalled tires, for which NHTSA intends to seek OMB approval. NHTSA issued a notice of proposed rulemaking to implement section 7 on December 18, 2001 (66 FR 65165). It then issued a supplemental notice on July 26, 2002 (67 FR 48852).

In response to an earlier request for public comment on a proposed collection of information based on the NPRM, which was published on May 27, 2003 (68 FR 28876), the Rubber Manufacturers Association (RMA) commented that NHTSA had not requested comment or fulfilled other PRA duties with respect to certain information that would have to be provided to third parties. The agency agrees that the May 27, 2003, request was inadequate. Accordingly, NHTSA is publishing this request for comment, which addresses the items identified by the RMA as well as other relevant items.

The first request for comment stated that this was a new information collection. Upon further consideration, NHTSA has decided to treat this as a revision to an existing information collection, OMB No. 2127-0004.

DATES: Comments must be received on or before June 21, 2004.

ADDRESSES: Comments must refer to the docket and notice numbers cited at the beginning of this notice and be submitted to Docket Management, Room PL-401, 400 Seventh Street, SW., Washington, DC 20590. The Docket is open on weekdays from 9:30 a.m. to 5 p.m. Anyone is able to search the electronic form of all comments received into any of our dockets by the name of the individual submitting the comment (or signing the comment, if submitted on behalf of an association, business, labor union, etc.). You may review DOT's complete Privacy Act Statement in the Federal Register published on April 11, 2000 (volume 65, number 70, pages 19477-78), or you may visit http://dms.dot.gov.

FOR FURTHER INFORMATION CONTACT: Mr. George Person, Office of Defects Investigation, NHTSA, 400 Seventh Street, SW., Room 5326, Washington, DC 20590. Mr. Person's telephone number is (202) 366-5210.

SUPPLEMENTARY INFORMATION: Under the Paperwork Reduction Act of 1995 (PRA), before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions;

(iii) How to enhance the quality, utility, and clarity of the information to be collected; and

(iv) How to minimize the burden of the collection of information on those who are to respond, including the use of appropriate automated, electronic, mechanical, or other technological collection techniques or other forms of information technology, e.g., permitting electronic submission of responses.

Disposition of Recalled Tires

Type of Request—Revision to an existing collection.

OMB Clearance Number—2127-0004.

Requested Expiration Date of Approval—February 28, 2006 (this is the current expiration date of OMB No. 2127-0004).

Summary of Collection of Information—

An outline of the information to be collected is as follows:

I. If there is a tire recall, which parties must provide information?

A. The tire manufacturer conducting the recall.

B. Any affected tire brand name owners (as defined at 49 U.S.C. 30102(b)(1)(E)), such as retail chain stores that sell recalled tires under their own “private labels” or house labels.

C. Any vehicle manufacturer that conducts a tire recall.

D. Tire outlets under the control of a manufacturer conducting a tire recall, such as owned stores, franchised dealers and/or distributors.

II. To which parties must the information be provided?

A. Each manufacturer would have to provide information to three categories of parties:

1. NHTSA.

2. Owned stores, franchised dealers and/or distributors (third parties).

3. Independent tire outlets authorized to replace tires under the recall.

B. In the event of a recall, each tire outlet under the control of a manufacturer must provide information to the manufacturer if the outlet does not comply with certain requirements. This is referred to as “exceptions reporting” (third party reporting).

III. What information must each manufacturer provide?

A. Contents of reports to NHTSA:

1. The manufacturer's plan for assuring that the entities replacing the tires are aware of the legal requirements related to recalls of tires established by 49 U.S.C. chapter 301 and implementing regulations.

2. An explanation of how the manufacturer will prevent, to the extent within its control, the recalled tires from being resold for installation on a motor vehicle.

3. A description of the manufacturer's program for disposing of recalled tires that are returned to the manufacturer or collected by the manufacturer from retail outlets, including, at a minimum, statements that the returned tires will be disposed of in compliance with applicable state and local laws and regulations regarding disposal of tires, and will be channeled, insofar a possible, into an “alternative beneficial non-vehicular use” rather than being disposed of in landfills.

4. A draft of the notification(s) to be sent to stores, dealers, etc. that is described in section III.B, below.

B. Contents of reports to owned stores, franchised dealers and/or distributors, and independent outlets that are authorized to replace the recalled tires (third party reporting):

1. A description of the legal requirements related to recalls of tires established by 49 U.S.C. chapter 301 and implementing regulations, including the prohibitions on the sale of new and used defective and noncompliant tires (49 CFR 573.11 and 573.12), the right to reimbursement of the costs of certain pre-notification remedies (49 CFR 573.13), and the duty to notify NHTSA of a knowing or willful sale or lease of a new or used recalled tire that is intended for use on a motor vehicle (49 CFR 573.10).

2. Directions to manufacturer-owned and other manufacturer-controlled outlets, and guidance to all other outlets that are authorized to replace the recalled tires, on how and when to alter the recalled tires permanently so they cannot be used on vehicles.

3. Directions to manufacturer-owned and other manufacturer-controlled outlets, and guidance to all other outlets that are authorized to replace the recalled tires, either:

(a) To ship all recalled tires to one or more locations designated by the manufacturer as part of the manufacturer's recall program or to allow the manufacturer to collect and dispose of the recalled tires; or

(b) To ship recalled tires to a location of their own choosing, provided that they comply with applicable state and local laws regarding disposal of tires, along with directions and guidance on how to limit the disposal of recalled tires into landfills and instead, channel them to an “alternative beneficial non-vehicular use.”

Under Option (a), if the manufacturer establishes a testing program for recalled tires, the directions and guidance shall also include criteria for selecting recalled tires for the testing program and instructions for labeling those tires and returning them to the manufacturer.

4. Directions to manufacturer-owned and other manufacturer-controlled outlets to report to the manufacturer on a monthly basis the number of recalled tires removed from vehicles by the outlet that have not been rendered unsuitable for resale for installation on a motor vehicle within the specified time frame and to describe any such failure to comply with the manufacturer's plan.

IV. What information must tire outlets under the control of the manufacturer provide to the manufacturer (third party reporting)?

A. Monthly (or within 30 days of the deviation) reports on the number of recalled tires, if any, removed from vehicles by the outlet that have not been rendered unsuitable for resale or installation on a motor vehicle within the specified time frame (other than those returned for testing) and that describe any such failure to act in accordance with the manufacturer's plan.

B. Monthly (or within 30 days of the deviation) reports on the number of recalled tires disposed of in violation of applicable state and local laws and regulations that describe any such failure to act in accordance with the manufacturer's plan.

V. Manufacturers' Quarterly Reports to NHTSA pursuant to 49 CFR 573.7 for recalls involving the replacement of tires must include the following information:

A. The aggregate number of recalled tires that the manufacturer becomes aware have not been rendered unsuitable for resale for installation on a motor vehicle in accordance with the manufacturer's plan.

B. The aggregate number of recalled tires that the manufacturer becomes aware have been disposed of in violation of applicable state and local laws and regulations.

C. A description of any failure of a tire outlet to act in accordance with the directions in the manufacturer's plan, including an identification of the outlet in question.

VI. Recordkeeping requirements:

No recordkeeping requirements are imposed on any party by this rule.

Description of the Need for the Information and Proposed Use of the Information—NHTSA will rely on the information provided by manufacturers to NHTSA in deciding whether or not the manufacturer(s) are complying with the requirements of the TREAD Act for the proper handling and disposal of recalled tires and to ensure that the recalled tires are not reused on motor vehicles. NHTSA is requiring that certain information be provided to third parties to assure that all entities involved in tire recalls are aware of the requirements established by the TREAD Act and its implementing regulations.

Description of the Likely Respondents (Including Estimated Number and Proposed Frequency of Responses to the Collection of Information)—All manufacturers that conduct tire recall campaigns would be required to provide information. We estimate that there are 10 manufacturers of tires. In the past 3 years, there has been an average of between 9 and 10 tire recalls conducted annually by all manufacturers. (Occasionally, but rarely, vehicle manufacturers conduct recalls that involve the replacement of tires.) In each instance, manufacturers will have to provide a tire disposal plan to NHTSA in their part 573 reports, and will have to include instructions to dealers and other retail outlets in their notifications to those outlets.

Manufacturers are already required to provide quarterly reports for 6 quarters for each recall pursuant to 49 CFR 577.7. Assuming 10 tire recalls per year, there could be a total of up to 60 quarterly reports per year (6 reports × 10 recalls), but we believe that few, if any, of these reports would contain any information relative to this information collection.

Manufacturer-owned or controlled dealers will be required to provide a report to manufacturers when they deviate from the manufacturer's tire disposal plan. Such reports must be provided either monthly or within 30 days of the deviation. Again, we expect very few, if any, such reports by these dealers, since we expect that they will comply with applicable statutory and regulatory requirements and with the terms of the manufacturer's plan. We invite comment as to how often entities replacing tires might violate state and local laws governing the disposal of tires or how often these entities will fail to comply with the manufacturer's instructions to render the tires unusable on a vehicle.

Estimate of the Total Annual Reporting and Recordkeeping Burden of the Collection of Information in the NPRM—Manufacturers conducting tire recalls would be required to include additional information in their part 573 notices that they submit to NHTSA when initiating a recall. We estimate that this will require about one hour of staff work in each notice. Additionally, each quarterly report that includes information under this amendment could require up to an additional 8 hours to maintain the records and prepare the report; however, since only deviations from the disposal plan must be reported, we presume that no relevant information will be included in any quarterly reports submitted to NHTSA, and therefore that there will be no burden.

Manufacturers would have to include certain additional information in the notices that they are required to submit to dealers. This could require about one hour of staff work to prepare the additional information. This would be necessary once for each recall. No additional burden hours are required for printing and mailing since the notices are already required. Thus, the only burden associated with this proposed information collection under this rule is the incremental burden of providing the required additional information.

Accordingly, the annual reporting and recordkeeping burden imposed on manufacturers for information provided to NHTSA and to third party dealers and retail outlets under this proposed information collection is estimated to be 20 hours annually (10 recalls per year times 2 hours per recall).

Manufacturer owned or controlled dealers must provide information when they deviate from the manufacturer's disposal plan. In the event that is necessary, which we think unlikely, we estimate that one hour of staff time will be required to make the necessary report. However, as discussed earlier, we estimate that no reports will be provided. Accordingly, we estimate that there will be no annual burden. We invite comment relating to the expected number of annual occurrences of violations and deviations from the disposal plan by these entities.

The current OMB inventory for Information Collection No. 2127-0004 includes 15,844 hours. A proposed information collection under another TREAD Act regulation, “Reimbursement Prior to Recall” (see 67 FR 64049 (October 17, 2002), petition for reconsideration pending), would add 2,360 burden hours, for a total of 18,204 hours. The number of respondents and total annual responses covered by that information collection already includes those entities conducting tire recalls. We propose to request an increase in the annual reporting and recordkeeping burden for Information Collection No. 2127-0004 of 20 hours for a total of 18,224 annual hours.

Estimate of the Total Annual Costs of the Collection of Information under this Rule—Other than the cost of the burden hours, we estimate that there would be no additional costs associated with this information collection, since any costs associated with the printing and distributing the necessary reports and notices is already included in the existing information collection.

Authority: 44 U.S.C. 3506(c); delegation of authority at 49 CFR 1.50.

Issued on: April 15, 2004.
Kenneth N. Weinstein,
Associate Administrator for Enforcement.

[FR Doc. 04-8987 Filed 4-21-04; 8:45 am]

BILLING CODE 4910-59-P